ENVIRONMENTAL PROTECTION AGENCY

40 CFR Part 52

[IN129-1b; FRL-7413-6]

Approval and Promulgation of Implementation Plans; Indiana

AGENCY: Environmental Protection Agency (EPA).

ACTION: Proposed rule.

SUMMARY: The EPA is proposing to approve a site-specific State Implementation Plan (SIP) revision request concerning volatile organic compound (VOC) reasonably available control technology (RACT) requirements for the Naval Surface Warfare Center, Crane Division (NSWC Crane) in Crane, Indiana as requested by the State of Indiana on April 3, 2000. The SIP submission allows the Department of the Navy to use military specification coatings containing a VOC content of up to 5.45 pounds per gallon for the painting operations in Building 2728 at NSWC Crane.

In the “Rules and Regulations” section of this Federal Register, EPA is approving the State's SIP revision request as a direct final rule without prior proposal because EPA views this action as noncontroversial and anticipates no adverse comments. The rationale for approval is set forth in the direct final rule. If EPA receives no written adverse comments, EPA will take no further action on this proposed rule. If EPA receives written adverse comment, we will publish a timely withdrawal of the direct final rule in the Federal Register and inform the public that the rule will not take effect. In that event, EPA will address all relevant public comments in a subsequent final rule based on this proposed rule. In either event, EPA will not institute a second comment period on this action. Any parties interested in commenting must do so at this time.

DATES: Comments on this action must be received by January 30, 2003.

ADDRESSES: Written comments should be mailed to: J. Elmer Bortzer, Chief, Regulation Development Section, Air Programs Branch (AR-18J), USEPA, Region 5, 77 West Jackson Boulevard, Chicago, Illinois 60604.

A copy of the State's SIP revision request is available for inspection at the above address.

FOR FURTHER INFORMATION CONTACT: Francisco J. Acevedo, Environmental Protection Specialist, Regulation Development Section, Air Programs Branch (AR-18J), USEPA, Region 5, 77 West Jackson Boulevard, Chicago, Illinois 60604, (312) 886-6061.

SUPPLEMENTARY INFORMATION: Throughout this document whenever “we,” “us,” or “our” are used we mean the EPA.

I. What action is EPA taking today?

II. Where can I find more information about this proposal and corresponding direct final rule?

I. What Action Is EPA Taking Today?

The EPA is proposing to approve a revision to Indiana's SIP to allow military specification coatings containing VOC control requirements with content up to 5.45 pounds of VOC per gallon of coating less water for the projectile renovations operations in Building 2728 at NSWC Crane.

NSWC Crane submitted a petition to the Commissioner of Indiana Department of Environmental Management (IDEM) on July 13, 1999 requesting to be allowed to use military specification coatings containing VOC content greater than 3.5 pounds per gallon. According to Indiana's requirements in 326 IAC 8-2-9 (General Provisions Relating to VOC Rules: Miscellaneous Metal Coating Operations) a 3.5 pounds of VOC per gallon of coating less water is required for any miscellaneous metal coating operation. NSWC Crane's petition was made because no low VOC substitute could be located that would meet the military specification TT-E-516, TT-P-664D, or TT-T-306 requirements. These coatings are required to meet the performance specifications for coating of the military projectiles currently manufactured at NSWC Crane.

According to 326 IAC 8-1-7 (General Provisions Relating to VOC Rules: Military Specifications), if emission limitations established in 326 IAC 8 (General Provisions Relating to VOC) conflict with military specifications, the owner or operator of the source may petition the Commissioner of IDEM to have military specifications be the controlling limitation. If the Commissioner approves the petition, the modified limitation shall be submitted to EPA as a SIP revision.

II. Where Can I Find More Information About This Proposal and Corresponding Direct Final Rule?

For additional information see the direct final rule published in the rules section of this Federal Register.

Authority: 42 U.S.C. 4201 et seq.

Dated: November 14, 2002.
Bharat Mathur,
Acting Regional Administrator, Region 5.

[FR Doc. 02-31668 Filed 12-30-02; 8:45 am]

BILLING CODE 6560-50-P